DEPARTMENT OF THE INTERIOR

Bureau of Indian Affairs

Notice of Intent To Prepare an Environmental Impact Statement for the Proposed Mandan, Hidatsa, Arikara Nation Clean Fuels Refinery, Ward County, ND

AGENCY: Bureau of Indian Affairs, Interior.

ACTION: Notice.

SUMMARY: This notice advises the public that the Bureau of Indian Affairs (BIA), with the cooperation of the Mandan, Hidatsa, Arikara (MHA) Nation, intends to gather the information necessary for preparing an Environmental Impact Statement (EIS) for the proposed 468-acre Fee-to-Trust Transfer and Clean Fuels Refinery Project in Ward County, North Dakota. The purpose of the proposed action is to help meet the land base and economic needs of the MHA Nation.

DATES: You may submit written comments on the scope and implementation of this proposal through December 8, 2003.

ADDRESSES: You may mail or hand carry written comments to Horace Pipe, 25300 366 Street SW, Makoti, North Dakota 58756.

FOR FURTHER INFORMATION CONTACT: Horace Pipe, (701) 726-5894.

SUPPLEMENTARY INFORMATION: The MHA Nation proposes that 468 acres of land be taken into trust, that a clean fuels refinery be constructed on 160 acres of that land. The 468 acres of land to be taken into trust are in the northeast corner of the Fort Berthold Indian Reservation along the south side of North Dakota Highway 23, about 2 miles west of the turnoff to Makoti, North Dakota. The land and refinery, which will be owned and managed by the MHA Nation, will be in sections 19 and 20 of Township 152 North, Range 87 West.

The MHA Nation proposes to construct a petroleum refinery to process 10,000 barrels per stream day of synthetic crude from northern Alberta, obtained from a nearby, existing pipeline. The refinery will be a new state-of-the-art facility that will be able to meet current and proposed 2008 EPA regulations. The facility will be the most technologically advanced refinery in the United States and it will produce the cleanest gasoline and diesel fuel in the country. The project would employ 600 to 1000 positions during construction and 65 to 70 positions during operation.

The BIA will serve as the Lead Agency for compliance with the National Environmental Policy Act. The Environmental Protection Agency will be a Cooperating Agency.

The EIS will assess the environmental consequences of BIA approval of the fee-to-trust transfer of land and the refinery project. Areas of environmental concern include effects to socio-economics; air quality; transportation; ground and surface water; wildlife and their habitats; threatened, endangered, or special-status species; cultural resources; aesthetics; land uses; and health and safety. The range of issues to be addressed may be further expanded based on comments received during the scoping process.

Public Comment Solicitation

Comments, including names and home addresses of respondents, will be available for public review at the address shown in the ADDRESSES section, during regular business hours, 7:30 a.m. to 4 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality regulations (40 CFR parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.

Dated: October 12, 2003.
Aurene M. Martin,
Principal Deputy Assistant Secretary—Indian Affairs.

[FR Doc. 03-28119 Filed 11-6-03; 8:45 am]

BILLING CODE 4310-W7-P